DEPARTMENT OF TRANSPORTATION

Federal Motor Carrier Safety Administration

[Docket No. FMCSA-2022-0148]

Commercial Driver's License: Application for Exemption; National School Transportation Association; Correction

AGENCY: Federal Motor Carrier Safety Administration (FMCSA), DOT.

ACTION: Notice of correction.

SUMMARY: FMCSA corrects the October 27, 2022, notice of final disposition in which the Agency announced its decision to grant the exemption requested by the National School Transportation Association (NSTA). Although the exemption expiration date is correctly stated in the DATES section of the notice, Section VII of the notice incorrectly identifies the expiration date. Today's correction notice is being published to remedy that error.

DATES: The effective date of this correction notice is November 2, 2022.

FOR FURTHER INFORMATION CONTACT: Mr. Richard Clemente, FMCSA Driver and Carrier Operations Division; Office of Carrier, Driver and Vehicle Safety Standards; Telephone: 202-366-2722. Email: richard.clemente@dot.gov. If you have questions on viewing or submitting material to the docket, contact Docket Services, telephone (202) 366-9826.

I. Correction

The original notice of disposition published in the FR (87 FR 65114) is modified to reflect the correct date of expiration in the terms and conditions. This corrected date supersedes the date identified in the original notice of disposition.

The first sentence under “VII. Terms and Conditions of the Exemption” on page 65116 of the notice of final disposition is corrected to read as follows:

“This exemption covers States for the period beginning at 12:00 a.m. (ET) on November 27, 2022 and continuing through 11:59 p.m. (ET) on November 27, 2024.”

Larry W. Minor,
Associate Administrator for Policy.

[FR Doc. 2022-23830 Filed 11-1-22; 8:45 am]

BILLING CODE 4910-EX-P